POSTAL REGULATORY COMMISSION

[Docket No. CP2013-7; Order No. 1660]

Priority Mail Contract; Negotiated Service Agreement

AGENCY: Postal Regulatory Commission.

ACTION: Notice.

SUMMARY: The Commission is noticing a recent Postal Service filing concerning an amendment to the existing Priority Mail Contract 47 Negotiated Service Agreement. This notice informs the public of the filing, invites public comment, and takes other administrative steps.

DATES: Comments are due: February 22, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On February 13, 2013, the Postal Service filed notice that it has agreed to an amendment to existing Priority Mail Contract 47, which was added to the competitive product list in this docket.¹ In its Notice, the Postal Service includes Attachment A, a redacted copy of the amended portion of Priority Mail Contract 47.

¹ Notice of United States Postal Service of Amendment to Priority Mail Contract 47, With Portions Filed Under Seal, February 13, 2013 (Notice).

The Postal Service also filed the unredacted amendment under seal. It asserts that the “supporting financial documentation and financial certification initially provided in this docket remain applicable.” Id. at 1. It also seeks to incorporate by reference the Application for Non-Public Treatment originally filed in this docket for the protection of customer-identifying information that it has filed under seal. Id.

The amendment changes the definition of the term “Contract Quarters” to provide that the first contract quarter begins on January 1 rather than July 1. Id. Attachment A at 1. The Postal Service intends for the amendment to become effective on the day after the date that the Commission completes its review of the Notice. Id.

II. Notice of Filing

Interested persons may submit comments on whether the changes presented in the Postal Service's Notice are consistent with the policies of 39 U.S.C. 3632, 3633, or 3642, 39 CFR 3015.5, and 39 CFR part 3020, subpart B. Comments are due no later than February 22, 2013. The public portions of these filings can be accessed via the Commission's Web site (http://www.prc.gov).

James F. Callow will continue to serve as Public Representative in this docket.

III. Ordering Paragraphs

It is ordered:

1. The Commission shall reopen Docket No. CP2013-7 to consider the amendment to Priority Mail Contract 47.

2. James F. Callow will continue to serve as an officer of the Commission (Public Representative) to represent the interests of the general public in this proceeding.

3. Comments by interested persons in these proceedings are due no later than February 22, 2013.

4. The Secretary shall arrange for publication of this order in the Federal Register.

By the Commission.
Ruth Ann Abrams,
Acting Secretary.

[FR Doc. 2013-04042 Filed 2-21-13; 8:45 am]

BILLING CODE 7710-FW-P